DEPARTMENT OF DEFENSE

Office of the Secretary

Board of Visitors Meeting

AGENCY: Department of Defense Acquisition University.

ACTION: Board of Visitors meeting.

SUMMARY: The next meeting of the Defense Acquisition University (DAU) Board of Visitors (BoV) will be held at the Packard Conference Center, Building 184, Ft. Belvoir, Virginia on Wednesday June 7, 2000 from 0900 until 1500. The purpose of this meeting is to report back to the BoV on continuing items of interest. The agenda will also include a presentation by a FY 1999 DAU External Acquisition Research Program awardee.

The meeting is open to the public; however, because of space limitations, allocation of seating will be made on a first-come, first served basis. Persons desiring to attend the meeting should call Mr. John Michel at 703.845.6756.

Dated: May 4, 2000.
L.M. Bynum,
Alternate, OSD Federal Liaison Officer, Department of Defense.

[FR Doc. 00-11602 Filed 5-9-00; 8:45 am]

BILLING CODE 5001-10-M